DEPARTMENT OF JUSTICE

[OMB Number 1121-NEW]

Agency Information Collection Activities; Proposed eCollection eComments Requested; New Collection: Survey of State Attorneys General Offices (SSAGO): Human Trafficking

AGENCY: Bureau of Justice Statistics, Department of Justice.

ACTION: 60-Day notice.

SUMMARY: The Department of Justice (DOJ), Office of Justice Programs, Bureau of Justice Statistics (BJS), will be submitting the following information collection request to the Office of Management and Budget (OMB) for review and approval in accordance with the Paperwork Reduction Act of 1995.

DATES: Comments are encouraged and will be accepted for 60 days until October 5, 2018.

FOR FURTHER INFORMATION CONTACT: If you have additional comments especially on the estimated public burden or associated response time, suggestions, or need a copy of the proposed information collection instrument with instructions or additional information, please contact Suzanne Strong, Statistician, Prosecution and Judicial Statistics Unit, Bureau of Justice Statistics, 810 Seventh Street NW, Washington, DC 20531 (email: Suzanne.M.Strong@usdoj.gov; telephone: 202-616-3666).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

(1) Type of Information Collection: New collection.

(2) The Title of the Form/Collection: Survey of State Attorneys General Offices (SSAGO)—Human Trafficking.

(3) The agency form number, if any, and the applicable component of the Department sponsoring the collection: SSAGO-2. The applicable component within the Department of Justice is the Bureau of Justice Statistics, in the Office of Justice Programs.

(4) Affected public who will be asked or required to respond, as well as a brief abstract: Respondents will be state attorneys general or deputy attorneys within the state and territory attorneys general offices who work on human trafficking matters. Abstract: Among other responsibilities, the Bureau of Justice Statistics is charged with collecting data regarding the prosecution of crimes by state and federal offices. This survey will be directed towards state and territory attorneys general offices regarding their jurisdiction over civil and criminal human trafficking matters. This is BJS's second survey of state attorney general offices, but the first survey from the Survey of State Attorneys General Offices (SSAGO) program. The survey collects data on the staffing of state attorneys general offices, including the total number of deputy attorneys general and access to support staff. The survey also collects information on the types and numbers of human trafficking matters referred to the state attorneys general offices, the sources of the referrals of human trafficking matters, the estimates of labor and sex trafficking cases, the types of victims in labor and sex trafficking cases, the types of offenders of labor and sex trafficking cases, the manner in which criminal and civil human trafficking cases were closed in court, and state attorneys general offices' participation in state and federal human trafficking task forces.

(5) An estimate of the total number of respondents and the amount of time estimated for an average respondent to respond: An agency-level survey will be sent to approximately 56 state and territory attorneys general offices. The expected burden placed on these respondents is about 25 minutes per respondent, with an additional 5 minutes to locate any additional persons within the office necessary to complete the survey.

(6) An estimate of the total public burden (in hours) associated with the collection: The total respondent burden is approximately 28 burden hours for the 56 respondents.

If additional information is required contact: Melody Braswell, Department Clearance Officer, United States Department of Justice, Justice Management Division, Policy and Planning Staff, Two Constitution Square, 145 N Street NE, 3E.405A, Washington, DC 20530.

Dated: July 30, 2018.
Melody Braswell,
Department Clearance Officer for PRA, U.S. Department of Justice.

[FR Doc. 2018-16581 Filed 8-3-18; 8:45 am]

BILLING CODE 4410-18-P